DEPARTMENT OF HEALTH AND HUMAN SERVICES

Centers for Disease Control and Prevention

Notice of Award of a Sole Source Cooperative Agreement To Fund Ministry of Health of Mozambique (MISAU)

AGENCY: Centers for Disease Control and Prevention (CDC), Department of Health and Human Services (HHS).

ACTION: Notice.

SUMMARY: The Centers for Disease Control and Prevention (CDC), located within the Department of Health and Human Services (HHS), announces the award(s) of approximately $10,000,000, for Year 1 funding to MISAU. The(se) award(s) will support the GRM through MISAU to continue to address Tuberculosis (TB) and human immunodeficiency virus (HIV) as a public health problem through the expansion of access to quality HIV prevention, care, and treatment services to reduce remaining gaps among children, adolescents, key populations (KP) and men. Funding amounts for years 2-5 will be set at continuation.

DATES: The period for this award will be September 30, 2024, through September 29, 2029.

FOR FURTHER INFORMATION CONTACT: Scott Salo, Center for Global Health, Centers for Disease Control and Prevention, Avenida Marginal nr 5467 Sommerschield, Distrito Municipal de KaMpfumo Caixa Postal 783 CEP 0101-11 Maputo, Moçambique, Telephone: 404.553.7439, E-Mail: evf1@cdc.gov.

SUPPLEMENTARY INFORMATION: The sole source award(s) will strengthen technical, managerial, and institutional capacities at MISAU to optimize some of the following approaches: youth appropriate HIV testing services, HIV-related DREAMS services for Adolescent Girls and Young Women, pre-exposure prophylaxis services, voluntary medical male circumcision services, cervical cancer services, and gender-based violence services. Other approaches include maternal and child health services, differentiated HIV service delivery models, and HIV and TB services.

MISAU is in a unique position to conduct this work, as it is the central institution of public sector, which according to the law of the Republic of Mozambique, is responsible for the implementation of health policy in the public, private, and community domains. MISAU, by law, has the authority to lead, provide oversight, monitor the implementation of healthcare programs and services at national level, and is mandated to develop policies and guidelines, and plan, manage, and coordinate all health-related activities including HIV/TB services.

Summary of the Award

Recipient: Ministry of Health of Mozambique (MISAU).

Purpose of the Award: The purpose of this award is to to prepare MISAU to sustain the gains of the national HIV response through the development of a measurable roadmap for sustainability and support the Government of Mozambique through MISAU to continue to address HIV/TB as a public health problem through the expansion of access to quality HIV prevention, care, and treatment services to reduce remaining gaps among children, adolescents, KP, and men.

Amount of Award: For MISAU, the approximate year 1 funding amount will be $10,000,000 in Federal Fiscal Year (FYY) 2024 funds, subject to the availability of funds. Funding amounts for years 2-5 will be set at continuation.

Authority: This program is authorized under Public Law 108-25 (the United States Leadership Against HIV AIDS, Tuberculosis and Malaria Act of 2003) [22 U.S.C. 7601, et seq.] and Public Law 110-293 (the Tom Lantos and Henry J. Hyde United States Global Leadership Against HIV/AIDS, Tuberculosis, and Malaria Reauthorization Act of 2008), and Public Law 113-56 (PEPFAR Stewardship and Oversight Act of 2013).

Period of Performance: The period for this award will be September 30, 2024, through September 29, 2029.

Dated: March 13, 2024.
Jamie Legier,
Acting Director, Office of Grants Services, Centers for Disease Control and Prevention.

[FR Doc. 2024-05778 Filed 3-18-24; 8:45 am]

BILLING CODE 4163-18-P